DEPARTMENT OF AGRICULTURE

Forest Service

Superior National Forest, Minnesota; School Trust Land Exchange

AGENCY: Forest Service, USDA.

ACTION: Notice of intent to prepare an environmental impact statement.

SUMMARY: The purpose and need for the land exchange is: the Superior National Forest would acquire land inside the Boundary Waters Canoe Area Wilderness (BWCAW) from the Minnesota School Trust with outstanding wilderness/scenic/recreational opportunities, which will consolidate ownership and eliminate the risk of development or uses incompatible with wilderness values and management. The federal land located outside the BWCAW conveyed to the Minnesota School Trust would allow the State to manage lands outside the wilderness to generate revenue to benefit the Minnesota public school system.

In February 2015, a scoping process for this project was initiated by the Forest Supervisor. The scoping period lasted until May 15, 2015 and included notification to a wide range of interested persons, adjacent landowners, state, local and tribal government, and organizations. In addition, five open houses were held in the project area and Saint Paul, MN. Over 1,600 comment letters were received from interested persons, adjacent landowners, state, local and tribal government, and organizations. Upon review of scoping comments, the Forest Supervisor decided to prepare an Environmental Impact Statement (EIS).

While further scoping comments will be accepted, it is anticipated that the scoping comments already received have thoroughly described the range of issues of interest to the public, agencies, organizations and governments. Scoping comments already received during the February-May 2015 scoping period are being considered, are part of the project record, and will provide standing to object per requirements of 36 CFR 218.

DATES: Any additional comments concerning the scope of the analysis must be received by September 30, 2015. The Draft Environmental Impact Statement is expected January 2016, and the Final Environmental Impact Statement is expected September 2016.

ADDRESSES: Send written comments to Brenda Halter, Forest Supervisor, RE: School Trust Land Exchange EIS, at 8901 Grand Avenue Place, Duluth, MN 55808. Comments may also be sent via email to comments-eastern-superior@fs.fed.us or via facsimile to (218) 626-4398.

FOR FURTHER INFORMATION CONTACT: Peter Taylor, Forest Environmental Coordinator, at (218) 626-4368 or prtaylor@fs.fed.us. Go to www.fs.usda.gov/goto/superior/projects and navigate to the School Trust Land Exchange Web page for the scoping information on this project. The scoping information on the Web page is the same as that available during the February-May 2015 scoping period.

SUPPLEMENTARY INFORMATION:

Purpose and Need for Action

Inside the BWCAW

The Superior National Forest would acquire land with outstanding wilderness/scenic/recreational opportunities, which will consolidate ownership and eliminate the risk of development or uses incompatible with wilderness values and management. This exchange is part of the long term strategy for acquiring all county and state lands in the BWCAW to resolve the long standing issue of wilderness restrictions limiting use of nonfederal lands. The acquisition of these lands is considered Priority 1 under Forest Plan Guideline G-LA-2 (p. 2-51).

Outside the BWCAW

The exchange would meet Forest Plan Land Adjustment Goal G-LA-5 (p. 2-52) for acquisition of Minnesota State School Trust Lands in the BWCAW through land exchange. This exchange has the potential to reduce and/or eliminate over 30 complex special use permits/easements reducing the cost of special use permit administration on the Forest. The authorized activities would continue but would be managed by the State. This would meet the intent of Forest Plan Guideline G-LA-3(e) (p. 2-52).

The conveyance of Federal land would reduce boundary management and landline costs. Federal parcels proposed for exchange were specifically identified to consolidate federal and state ownership patterns. This would meet the intent of Forest Plan Guideline G-LA-3(d) (p. 2-52).

The land conveyed would allow the State to actively manage lands outside the wilderness to generate revenue to benefit the MN public school system. The State would manage the conveyed land to provide for a wide variety of goods, uses and services similar to management under federal ownership. This would meet the intent of Forest Plan Guideline G-LA-3(b) (p. 2-52).

Proposed Action

The Forest Service proposes to exchange federal lands of equal value from a pool of approximately 39,075 acres for approximately 30,000 acres of State lands. The final acres to be exchanged would reflect equal market values based on an appraisal compliant with federal standards. The possibility that all of the federal land will be necessary or that the federal land list will be inadequate is relatively low.

The Forest Service would also transfer authority and administration of special use permits located within the federal parcels to the Minnesota DNR. Many of these permits and easements involve both short and long-term authorizations for roads and trails, phone lines, electrical lines, fiber optics, and a county canister transfer station. These permits are located across the Forest and are administered by five ranger districts.

The State Constitution requires the State to reserve mineral rights in an exchange of School Trust lands. (Minn. Const. Art. XI Section 10.) The United States would reserve mineral rights on the 150 parcels where federal minerals occur.

Preliminary Issues

Consideration of issues raised in scoping comments will be documented in the Draft Environmental Impact Statement.

Possible Alternatives

Consideration of alternatives raised in scoping comments will be documented in the Draft Environmental Impact Statement.

Responsible Official

Forest Supervisor, Superior National Forest.

Nature of Decision To Be Made

The decision to be made is whether to exchange federal lands of equal value from a pool of approximately 39,075 acres for approximately 30,000 acres of State lands. The decision will include:

1. What actions would be used to address the purpose and need;

2. Where and when those actions would take place;

3. Any other actions that would be required.

Scoping Process

In February 2015, a scoping process for this project was initiated by the Forest Supervisor. The scoping period lasted until May 15, 2015 and included notification to a wide range of interested persons, adjacent landowners, state, local and tribal government, and organizations. In addition, five open houses were held in the project area and Saint Paul, MN. Over 1,600 comment letters were received from interested persons, adjacent landowners, state, local and tribal government, and organizations. Upon review of scoping comments, the Forest Supervisor decided to prepare an EIS.

While further scoping comments will be accepted, it is anticipated that the scoping comments already received have thoroughly described the range of issues of interest to the public, agencies, organizations and governments. Scoping comments already received during the February-May 2015 scoping period are being considered, are part of the project record, and will provide standing to object per requirements of 36 CFR 218.

Comments received in response to this solicitation, including names and addresses of those who comment, will be part of the public record for this proposed action. Comments submitted anonymously will be accepted and considered; however, anonymous comments will not provide the Agency with the ability to provide the respondsent with notification of subsequent environmental documents.

The School Trust Land Exchange decision is subject to objections following Forest Service regulations at 36 CFR 218, Subparts A and B. Only individuals or organizations who submit timely and specific written comments as defined at 36 CFR 218.2 regarding the proposed project during a public comment period established by the Responsible Official are eligible to file an objection to the School Trust Land Exchange. Scoping comments already received during the February-May 2015 scoping period provide commenters with standing to object per requirements of 36 CFR 218.2. The opportunity to object will be provided when a draft decision on the project is published.

Dated: August 10, 2015.
Brenda Halter,
Forest Supervisor.

[FR Doc. 2015-20834 Filed 8-27-15; 8:45 am]

BILLING CODE 3410-11-P